DEPARTMENT OF LABOR

Office of the Secretary

Submission for OMB Review: Comment Request

October 6, 2004.

The Department of Labor (DOL) has submitted the following public information collection request (ICR) to the Office of Management and Budget (OMB) for review and approval in accordance with the Paperwork Reduction Act of 1995 (Pub. L. 104-13, 44 U.S.C. 35). A copy of this ICR, with applicable supporting documentation, may be obtained by contacting the Department of Labor (DOL). To obtain documentation, contact Darrin King on 202-693-4129 (this is not a toll-free number) or e-mail: king.darrin@dol.gov.

Comments should be sent to Office of Information and Regulatory Affairs, Attn: OMB Desk Officer for the Bureau of Labor Statistics (BLS), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Extension of a currently approved collection.

Title: National Compensation Survey.

OMB Number: 1220-0164.

Frequency: Annually and Quarterly.

Type of Response: Recordkeeping and Reporting.

Affected Public: Business and other for-profit; Not-for-profit institutions; and State, Local, or Tribal Government.

Number of Respondents: 39,292 (3 year average).

Number of Annual Responses: 72,722 (3 year average).

Total Burden Hours: 56,564 (3 year average).

Annual Respondent Burden by Form
(Average of FY 2005, FY 2006, FY 2007)
Form | Total annual responses* | Average response time (minutes) | Annual burden hours
Establishment collection form (NCS Form 04-1G) | 1,533 | 19.00 | 486
Establishment collection form (NCS Form 04-1P) | 4,134 | 19.00 | 1,309
Earning form (NCS Form 04-2G) | 1,533 | 20.00 | 511
Earning form (NCS Form 04-2P) | 4,134 | 20.00 | 1,378
Computer generated earnings update form | 60,529 | 20.00 | 20,176
Work Level Form (NCS Form 04-3G) | 1,533 | 25.00 | 639
Work Level Form (NCS FORM 04-3P) | 4,134 | 25.00 | 1,722
Work Schedule Form (NCS 05-4G) | 1,533 | 10.00 | 256
Work Schedule Form (NCS 04-4P) | 4,134 | 10.00 | 689
Benefits Collection Form (NCS 04-5G) | 660 | 180.00 | 1,980
Benefits Collection Form (NCS 04-5P) | 2,150 | 180.00 | 6,450
Summary of Benefits (Benefit update form SO-1003) is computer generated | 47,510 | ¹15-20 | 15,661
Collection not tied to a specific form (testing, QA/QM, etc.) | 6,525 | ¹5-60 | 5,305
* Only a portion of initiations result in quarterly responses. All initiations result in at least an annual response.
¹ Weighted average.

Total Annualized Capital/Startup Costs: $0.

Total Annual Costs (Operating/Maintaining Systems or Purchasing Services): $0.

Description: The National Compensation Survey (NCS) is an ongoing survey of earnings and benefits among private firms, State, and local government. The NCS resulted from the merger of three surveys: The NCS earnings and work level data (formerly the Occupational Compensation Survey Program), the Employment Cost Index, and the Employee Benefits Survey. Data from these surveys are critical for setting Federal white-collar salaries, determining monetary policy (as a Principal Federal Economic Indicator), and for compensation administrators and researchers in the private sector.

The survey will collect data from a sample of employers. These data will consist of information about the duties, responsibilities, and compensation (earnings and benefits) for a sample of occupations for each sampled employer. Data will be updated on either an annual or quarterly basis. The updates will allow for production of data on change in earnings and total compensation.

Ira L. Mills,
Departmental Clearance Officer.

[FR Doc. 04-23015 Filed 10-13-04; 8:45 am]

BILLING CODE 4510-24-P